DEPARTMENT OF STATE

Office of the Secretary

[Public Notice: 4648]

Removal of the Restriction on the Use of United States Passports for Travel To, In or Through Libya

The restriction on the use of U.S. passports for travel to, in, or through Libya set forth in Public Notice 4542 of November 24, 2003 (68 FR 65981), is hereby revoked.

The public notice shall be effective from the date of signature.

Dated: February 23, 2004.
Colin L. Powell,
Secretary of State, Department of State.

[FR Doc. 04-5146 Filed 3-5-04; 8:45 am]

BILLING CODE 4710-10-P